DEPARTMENT OF LABOR

Employment and Training Administration

[TA-W-57,274]

Laidlaw Corporation, Currently Known as Laidlaw Company LLC, Monticello, WI; Amended Certification Regarding Eligibility To Apply for Worker Adjustment Assistance and Alternative Trade Adjustment Assistance

In accordance with Section 223 of the Trade Act of 1974 (19 U.S.C. 2273), and Section 246 of the Trade Act of 1974, (26 U.S.C. 2813), as amended, the Department of Labor issued a Certification of Eligibility to Apply for Worker Adjustment Assistance and Alternative Trade Adjustment Assistance on June 10, 2005, applicable to workers of Laidlaw Corporation, Monticello, Wisconsin. The notice was published in the Federal Register on July 14, 2005 (70 FR 40741).

At the request of the State agency, the Department reviewed the certification for workers of the subject firm. The workers are engaged in the production of wire garment hangers.

The subject firm originally named Laidlaw Corporation was renamed Laidlaw Company LLC in May 2006 due to a change in ownership. The State agency reports that workers wages at the subject firm are being reported under the Unemployment Insurance (UI) tax account for Laidlaw Company LLC, Monticello, Wisconsin.

Accordingly, the Department is amending the certification to properly reflect this matter.

The intent of the Department's certification is to include all workers of Laidlaw Corporation, currently known as Laidlaw Company LLC who were adversely affected by increased company imports.

The amended notice applicable to TA-W-57,274 is hereby issued as follows:

All workers of Laidlaw Corporation, currently known as Laidlaw Company LLC, Monticello, Wisconsin, who became totally or partially separated from employment on or after May 27, 2004, through June 10, 2007, are eligible to apply for adjustment assistance under Section 223 of the Trade Act of 1974, and are also eligible to apply for alternative trade adjustment assistance under Section 246 of the Trade Act of 1974.

Signed at Washington, DC this 7th day of November 2006.
Richard Church,
Certifying Officer, Division of Trade Adjustment Assistance.

[FR Doc. E6-19693 Filed 11-21-06; 8:45 am]

BILLING CODE 4510-30-P